SMALL BUSINESS ADMINISTRATION

Data Collection Available for Public Comments and Recommendations

ACTION: 60 Day Notice and request for comments.

SUMMARY: In accordance with the Paperwork Reduction Act of 1995, this notice announces the Small Business Administration's intentions to request approval on a new and/or currently approved information collection.

DATES: Submit comments on or before October 2, 2012.

ADDRESSES: Send all comments regarding whether this information collection is necessary for the proper performance of the function of the agency, whether the burden estimates are accurate, and if there are ways to minimize the estimated burden and enhance the quality of the collections, to Nathaniel Bishop, Program Analyst, Office of Economic Development, Small Business Administration, 409 3rd Street, 6th Floor, Washington, DC 20416.

FOR FURTHER INFORMATION CONTACT: Nathaniel Bishop, Program Analyst, 202-205-7007 nathaniel.bishop@sba.gov Curtis B. Rich, Management Analyst, 202-205-7030 curtis.rich@sba.gov.

SUPPLEMENTARY INFORMATION: Part of the Government Performance Results Act (GPRA) mandated evaluation of Small Business Administration (SBA) business counseling and training programs and Small Business Administration strategic plan is to examine the impact of counseling and information services on nascent, start- up and in-business clients. The survey will measure effects on counseling and information transfer on the respondent's evaluation of the effectiveness, usefulness, and relevancy of the services provided and whether these services/actions led to the creation of jobs and an increase in business start-ups and gross revenue.

Title: “Entrepreneurial Development Impact Study”.

Description of Respondents: Small Business Clients owners & employees prospective Entrepreneurs and other student of enterprise.

Form Number: 2214, SBDC, Score, WBC, Impact.

Annual Responses: 12,468.

Annual Burden: 2,494.

Curtis Rich,
Acting Chief, Administrative Information Branch.

[FR Doc. 2012-19041 Filed 8-2-12; 8:45 am]

BILLING CODE P